DEPARTMENT OF COMMERCE

International Trade Administration

Oregon State University, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 15-019. Applicant: Oregon State University, Corvallis, OR 97331-2104. Instrument: Electron Microscope. Manufacturer: FEI Company, Czech Republic. Intended Use: See notice at 80 FR 44936, July 28, 2015.

Docket Number: 15-021. Applicant: The City University of New York, New York, NY 10017. Instrument: Electron Microscope. Manufacturer: FEI Company, Japan. Intended Use: See notice at 80 FR 44936, July 28, 2015.

Docket Number: 15-023. Applicant: Idaho National Laboratory, Idaho Falls, ID 83415. Instrument: Focused Ion Beam (FIB) Microscope. Manufacturer: FEI, Czech Republic. Intended Use: See notice at 80 FR 44936, July 28, 2015.

Docket Number: 15-025. Applicant: The Rockefeller University, New York, NY 10065. Instrument: Electron Microscope. Manufacturer: FEI Company, the Netherlands. Intended Use: See notice at 80 FR 44936-37, July 28, 2015.

Docket Number: 15-026. Applicant: University of Delaware, Newark, DE 19716. Instrument: Electron Microscope. Manufacturer: FEI Company, Brno, Czech Republic. Intended Use: See notice at 80 FR 44936-37, July 28, 2015.

Docket Number: 15-028. Applicant: University of California, Irvine, Irvine, CA 92697-2575. Instrument: Electron Microscope. Manufacturer: JEOL, Ltd., Japan. Intended Use: See notice at 80 FR 44936-47, July 28, 2015.

Docket Number: 15-030. Applicant: Washington State University, Pullman, WA 99164-1020. Instrument: MSM400 Yeast Tetrad Dissection Microscope. Manufacturer: Singer Instruments, United Kingdom. Intended Use: See notice at 80 FR 44936-37, July 28, 2015.

Docket Number: 15-033. Applicant: Battelle Memorial Institute, Richland, WA 99354. Instrument: Electron Microscope. Manufacturer: FEI Company, the Netherlands. Intended Use: See notice at 80 FR 44936-38, July 28, 2015.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Gregory W. Campbell,
Director, Subsidies Enforcement Office, Enforcement and Compliance.

[FR Doc. 2015-24466 Filed 9-28-15; 8:45 am]

BILLING CODE 3510-DS-P